DEPARTMENT OF HEALTH AND HUMAN SERVICES

National Institutes of Health

Eunice Kennedy Shriver National Institute of Child Health & Human Development; Notice of Meeting

Pursuant to section 10(a) of the Federal Advisory Committee Act, as amended, notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: December 2-3, 2019.

Time: December 02, 2019, 9:00 a.m. to 5:00 p.m.

Agenda: NCMRR Director's report; Update on NIH Helping to End Addiction Long-term [HEAL] Initiative; NICHD Director's report; Discussion of Career Development and K12 Networks; Progress on the current 2018 NIH Rehabilitation Research Plan; Subcommittee Reports: Planning for the NIH Rehabilitation Research Conference and update on the next NIH Rehabilitation Research Plan.

Place: NICHD Offices, 6710B Rockledge Drive, Rooms 1425/1427, Bethesda, MD 20892.

Time: December 03, 2019, 8:30 a.m. to 12:00 p.m.

Agenda: Update on NIH Pathways to Prevention Initiative; Teaming with Participants to Improve the Validity and Rigor of Rehabilitation Research; Scientific presentation on Precision Medicine in Pediatric Rehabilitation; Concept Clearance.

Place: NICHD Offices, 6710B Rockledge Drive, Rooms 1425/1427 Bethesda, MD 20892.

Contact Person: Ralph M. Nitkin, Ph.D., Director, B.S.C.D., Biological Sciences and Career Development, NCMRR, Eunice Kennedy Shriver National Institute of Child Health & Human Development, NIH, DHHS, 6100 Executive Boulevard, Room 2A03, Bethesda, MD 20892-7510, (301) 402-4206, nitkinr@mail.nih.gov.

Information is also available on the Institute's/Center's home page: www.nichd.nih.gov/about/ncmrr.htm, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: October 29, 2019.
Ronald J. Livingston, Jr.,
Program Analyst, Office of Federal Advisory Committee Policy.

[FR Doc. 2019-23992 Filed 11-1-19; 8:45 am]

BILLING CODE 4140-01-P